ENVIRONMENTAL PROTECTION AGENCY

[FRL-9469-9]

An Assessment of Decision-Making Processes: Evaluation of Where Land Protection Planning Can Incorporate Climate Change Information—Release of Final Report

AGENCY: Environmental Protection Agency (EPA).

ACTION: Notice of availability.

SUMMARY: EPA is releasing a final report entitled An Assessment of Decision-Making Processes: Evaluation of Where Land Protection Planning can Incorporate Climate Change Information, (EPA/600/R-09/142F). The document was prepared by the National Center for Environmental Assessment within EPA's Office of Research and Development.

This report is a review of decision-making processes of selected land protection programs. The goal of this report is to evaluate where land protection planning can incorporate climate change impacts information into programs. The assessment revealed that there are several strategies that might be useful for incorporating climate change information into decision making. As part of a portfolio of adaptation strategies, land protection may become more important for jurisdictions, particularly to ameliorate climate change impacts on watersheds and wildlife.

DATES: The report was posted publically on September 22, 2011.

ADDRESSES: The report, An Assessment of Decision-Making Processes: Evaluation of Where Land Protection Planning can Incorporate Climate Change Information, is available via the Internet on the National Center for Environmental Assessment's home page under the Recent Additions and the Data and Publications menus at http://www.epa.gov/ncea. A limited number of paper copies are available from the Information Management Team, NCEA, telephone: 703-347-8561; facsimile: 703-347-8691. If you are requesting a paper copy, please provide your name, mailing address, and the document title.

FOR FURTHER INFORMATION CONTACT: For additional information, contact the National Center for Environmental Assessment; Britta Bierwagen: telephone: 703-347-8613; facsimile: 703-347-8694; or e-mail: bierwagen.britta@epa.gov.

SUPPLEMENTARY INFORMATION:

I. Information About the Project/Document

The report, An Assessment of Decision-Making Processes: Evaluation of Where Land Protection Planning can Incorporate Climate Change Information, describes a review of the decision-making processes of selected programs that protect land to evaluate how information about climate change impacts information can be incorporated. The review focuses on a sample of programs with goals to protect wildlife and watersheds. This review demonstrates that while the land protection programs sampled in this paper did not make acquisition decisions based on climate change considerations directly, many of the criteria and processes reviewed are sensitive to climate change impacts. Incorporating adaptive strategies into existing decision-making processes would not involve changing existing criteria so much as incorporating climate change information into the evaluation of existing criteria. Mechanisms for incorporating such information include: (1) Developing decision-support tools for advisory committees; (2) providing a variety of methods to preserve lands; (3) educating elected officials who approve land protection decisions about the climate change benefits; (4) engaging in strategic parcel selection; (5) coordinating with land-use planning processes; and (6) developing tools for evaluating and prioritizing land parcels for protection. Incorporating climate change information in these decision-making processes can assist with maintaining land protection goals over time, such as wildlife, habitat and high water quality, as well as contribute to climate change mitigation and adaptation.

Dated: September 9, 2011.
Darrell A. Winner,
Acting Director, National Center for Environmental Assessment.

[FR Doc. 2011-24365 Filed 9-21-11; 8:45 am]

BILLING CODE 6560-50-P